LEGAL SERVICES CORPORATION

Development of Strategic Directions 2006-2010

AGENCY: Legal Services Corporation.

ACTION: Development of Strategic Directions—Request for Comments.

SUMMARY: LSC is in the process of developing Strategic Directions for the years 2006-2010. Toward that end, the Legal Services Corporation is soliciting comments on a Draft Strategic Directions 2006-2010 document.

DATES: Written comments must be received on or before December 19, 2005.

ADDRESSES: Written comments may be submitted by mail, fax or email to Charles Jeffress at the addresses listed below.

FOR FURTHER INFORMATION CONTACT: Charles Jeffress, Chief Administrative Officer, Legal Services Corporation, 3333 K Street, NW., Washington, DC 20007; 202-295-1630 (phone); 202-337-6386 (fax); cjeffress@lsc.gov.

SUPPLEMENTARY INFORMATION: In 2000, the Legal Services Corporation (LSC) Board of Directors adopted Strategic Directions 2000-2005. LSC is now in the process of developing Strategic Directions for the years 2006-2010. This notice is being published in the Federal Register requesting public comment for the Board's consideration prior to final adoption. The draft LSC Strategic Directions 2006-2010 document is available at the LSC Electronic Public Reading Room on the LSC Web site at: http://www.lsc.gov/FOIA/foia_epr.htm. Comments should be submitted as set forth above.

Victor M. Fortuno,
Vice President and General Counsel.

[FR Doc. 05-22803 Filed 11-16-05; 8:45 am]

BILLING CODE 7050-01-P